DEPARTMENT OF COMMERCE

National Oceanic and Atmospheric Administration

50 CFR Part 648

[Docket No. 0808041043-9036-02]

RIN 0648-XQ73

Fisheries of the Northeastern United States; Atlantic Mackerel, Squid, and Butterfish Fisheries; Total Allowable Catch (TAC) Harvested for Loligo Squid Trimester II

AGENCY: National Marine Fisheries Service (NMFS), National Oceanic and Atmospheric Administration (NOAA), Commerce.

ACTION: Temporary rule; closure.

SUMMARY: NMFS announces that, effective 0001 hours, August 6, 2009, federally permitted vessels may not fish for, catch, possess, transfer, or land more than 2,500 lb of Loligo squid per trip at any time, and may only land Loligo once on any calendar day until September 1, 2009, when the Trimester III quota becomes available. This action is based on the determination that 90 percent of the Trimester II Loligo squid quota is projected to be harvested by August 6, 2009. Regulations governing the Loligo squid fishery require publication of this notification to advise vessel and dealer permit holders that no TAC is available for the directed fishery for Loligo squid harvested for the duration of Trimester II.

DATES: Effective 0001 hrs local time, August 6, 2009, through August 31, 2009.

FOR FURTHER INFORMATION CONTACT: William Whitmore, Fishery Management Specialist, (978) 281-9182.

SUPPLEMENTARY INFORMATION: Regulations governing the Loligo squid fishery are found at 50 CFR 648.20. The regulations require annual specification of optimum yield, allowable biological catch, and in-season adjustments of trimester quotas. The 2009 TAC allocated for Trimester II (74 FR 6244, February 6, 2009) is 3,208 mt. Trimester III begins on September 1, 2009, continues through December 31, 2009, and has a quota of 7,550 mt.

The regulations at § 648.22 require the Administrator, Northeast Region, NMFS (Regional Administrator), to monitor the Loligo squid fishery during each of three trimesters as described in the Fishery Management Plan (FMP) for the Mackerel, Squid, and Butterfish fisheries and, based upon dealer reports, state data, and other available information, to determine when the harvest of Loligo squid is projected to reach 90 percent of the trimester TAC. When such a determination is made, NMFS is required to publish notification in the Federal Register of this determination. Effective upon a specific date, NMFS must notify vessel and dealer permit holders that vessels are prohibited from fishing for, catching, possessing, transferring, or landing more than 2,500 lb (1.3mt) of Loligo squid per trip or calendar day for the remainder of the closure period.

The Regional Administrator has determined, based upon dealer reports and other available information, that 90 percent of the Trimester II TAC for the 2009 fishing year is projected to be harvested. Therefore, effective 0001 hrs local time, August 6, 2009, federally permitted vessels may not fish for, catch, possess, transfer, or land more than 2,500 lb (1.3mt) of Loligo squid per trip or calendar day through August 31, 2009. Effective August 6, 2009, federally permitted dealers are also advised that they may not purchase Loligo squid from federally permitted vessels that harvest more than 2,500 lb (1.3 mt) of Loligo squid from through 2400 hrs local time, August 31, 2009.

Classification

This action is required by 50 CFR part 648 and is exempt from review under Executive Order 12866.

The Assistant Administrator for Fisheries, NOAA (AA), finds good cause pursuant to 5 U.S.C. 553(b)(B) to waive prior notice and the opportunity for public comment because it would be contrary to the public interest. This action closes the Loligo squid fishery for Trimester II until September 1, 2009, under current regulations. The regulations at § 648.22 require such action to ensure that Loligo squid vessels do not exceed the 2009 TAC. Trimester II of the Loligo squid fishery opened at 0001 hours on May 1, 2009. Data indicating the Loligo squid fleet will have landed at least 90 percent of the 2009 Trimester II TAC have only recently become available. If implementation of this closure is delayed to solicit prior public comment, the quota for this trimester will be exceeded, thereby undermining the conservation objectives of the FMP. The AA further finds, pursuant to 5 U.S.C 553(d)(3), good cause to waive the 30 day delayed effectiveness period for the reasons stated above.

Authority: 16 U.S.C. 1801 et seq.

Dated: July 31, 2009.
Kristen C. Koch,
Acting Director, Office of Sustainable Fisheries, National Marine Fisheries Service.

[FR Doc. E9-18838 Filed 8-3-09; 8:45 am]

BILLING CODE 3510-22-S